DEPARTMENT OF TRANSPORTATION

Federal Aviation Administration

14 CFR Part 39

[Docket No. FAA-2004-19867; Directorate Identifier 2004-NM-58-AD; Amendment 39-14151; AD 2005-13-14]

RIN 2120-AA64

Airworthiness Directives; McDonnell Douglas Model MD-90-30 Airplanes

AGENCY: Federal Aviation Administration (FAA), Department of Transportation (DOT).

ACTION: Final rule.

SUMMARY: The FAA is adopting a new airworthiness directive (AD) for all McDonnell Douglas Model MD-90-30 airplanes. This AD requires replacing existing dual anti-skid control manifolds (DACM) with new, improved or reworked and reidentified DACMs; inspecting the inlet filters and other components of the DACMs for damage; replacing any damaged DACM components with new or serviceable components; and flushing/cleaning the braking system prior to replacing the inlet filters. This AD is prompted by reports of multiple incidents of blown tires on landing while using maximum autobrake. We are issuing this AD to prevent metallic fibers from the first stage filter of the servo valves inside the DACM from becoming lodged in the first stage nozzle of the servo valve, which could lead to tire failure during high speed/high energy braking and possible subsequent runway departure.

DATES: This AD becomes effective July 29, 2005.

The incorporation by reference of certain publications listed in the AD is approved by the Director of the Federal Register as of July 29, 2005.

ADDRESSES: For service information identified in this AD, contact Boeing Commercial Airplanes, Long Beach Division, 3855 Lakewood Boulevard, Long Beach, California 90846, Attention: Data and Service Management, Dept. C1-L5A (D800-0024).

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2004-19867; the directorate identifier for this docket is 2004-NM-58-AD.

FOR FURTHER INFORMATION CONTACT: Cheyenne Del Carmen, Aerospace Engineer, Cabin Safety, Mechanical & Environmental Branch, ANM-150L, FAA, Los Angeles Aircraft Certification Office, 3960 Paramount Boulevard, Lakewood, California 90712-4137; telephone (562) 627-5338; fax (562) 627-5210.

SUPPLEMENTARY INFORMATION: The FAA proposed to amend 14 CFR part 39 with an AD for all McDonnell Douglas Model MD-90-30 airplanes. That action, published in the Federal Register on December 16, 2004 (69 FR 75277), proposed to require replacing existing dual anti-skid control manifolds (DACM) with new, improved or reworked and reidentified DACMs; inspecting the inlet filters and other components of the DACMs for damage; replacing any damaged DACM components with new or serviceable components; and flushing/cleaning the braking system prior to replacing the inlet filters.

Comments

We provided the public the opportunity to participate in the development of this AD. No comments have been submitted on the proposed AD or on the determination of the cost to the public.

Explanation of Change in the Service Information Citations

We have changed the name of the manufacturer shown in the service bulletins cited in the final rule to conform to the Office of the Federal Register requirements for materials incorporated by reference in ADs.

Conclusion

We have carefully reviewed the available data and determined that air safety and the public interest require adopting the AD with the change described previously. We have determined that this change will neither increase the economic burden on any operator nor increase the scope of the AD.

Costs of Compliance

This AD will affect about 115 airplanes worldwide and 24 airplanes of U.S. registry. The required actions will take about 8 work hours per airplane, at an average labor rate of $65 per work hour. Required parts will cost between $8,000 and $240,780 per airplane. Based on these figures, the estimated cost of the AD for U.S. operators is between $204,480 and $5,791,200, or between $8,520 and $241,300 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-13-14 McDonnell Douglas: Amendment 39-14151. Docket No. FAA-2004-19867; Directorate Identifier 2004-NM-58-AD.

Effective Date

(a) This AD becomes effective July 29, 2005.

Affected ADs

(b) None.

Applicability

(c) This AD applies to all McDonnell Douglas Model MD-90-30 airplanes, certificated in any category.

Unsafe Condition

(d) This AD was prompted by reports of multiple incidents of blown tires on landing while using maximum autobrake. We are issuing this AD to prevent metallic fibers from the first stage filter of the servo valves inside the dual anti-skid control manifolds (DACM) from becoming lodged in the first stage nozzle of the servo valve, which could lead to tire failure during high speed/high energy braking and possible subsequent runway departure.

Compliance

(e) You are responsible for having the actions required by this AD performed within the compliance times specified, unless the actions have already been done.

Replacement of DACMs

(f) Within 18 months after the effective date of this AD, replace existing DACMs with new, improved or reworked and reidentified DACMs, part number 6006079-2, by doing all actions in accordance with the Accomplishment Instructions of Boeing Service Bulletin MD90-32-056, dated October 7, 2003.

Note 1: Boeing Service Bulletin MD90-32-056 refers to Aircraft Braking Systems Corporation (ABSC) Service Bulletin MD-90 6006079-32-02, dated August 7, 2003, as an additional source of service information for installing new, improved or reworked and reidentified DACMs.

Concurrent Service Bulletin

(g) Prior to or concurrently with the accomplishment of paragraph (f) of this AD, perform paragraphs (g)(1) and (g)(2) of this AD in accordance with the Accomplishment Instructions of Boeing Service Bulletin MD90-32-043, Revision 01, dated November 9, 2000.

(1) Perform a detailed inspection of the metered pressure inlet filters and other components of the DACM for damage. Replace any damaged DACM components with new or serviceable components, and flush/clean the braking system, as applicable.

(2) Replace the metered pressure inlet filters of the DACM assembly with new filters.

Note 2: Boeing Service Bulletin MD90-32-043, Revision 01, refers to ABSC Service Bulletin MD90-32-12, dated January 12, 2000, as an additional source of service information for inspecting the components of the DACM assembly for uncleanliness, structural damage or excessive wear that may render the DACM inoperable, and for replacing those components with new or serviceable components, if necessary.

Note 3: For the purposes of this AD, a detailed inspection is “an intensive examination of a specific item, installation, or assembly to detect damage, failure, or irregularity. Available lighting is normally supplemented with a direct source of good lighting at an intensity deemed appropriate. Inspection aids such as mirror, magnifying lenses, etc., may be necessary. Surface cleaning and elaborate procedures may be required.”

Prior Inspection/Replacement of Inlet Filters

(h) Inspecting and replacing DACM inlet filters and flushing/cleaning braking systems before the effective date of this AD in accordance with Boeing Service Bulletin MD90-32-043, dated April 10, 2000, is considered acceptable for compliance with the corresponding actions specified in this AD.

Alternative Methods of Compliance (AMOCs)

(i) The Manager, Los Angeles Aircraft Certification Office, FAA, has the authority to approve AMOCs for this AD, if requested using the procedures found in 14 CFR 39.19.

Material Incorporated by Reference

(j) You must use Boeing Service Bulletin MD90-32-056, dated October 7, 2003; and Boeing Service Bulletin MD90-32-043, Revision 01, dated November 9, 2000; as applicable; to perform the actions that are required by this AD, unless the AD specifies otherwise. The Director of the Federal Register approves the incorporation by reference of these documents in accordance with 5 U.S.C. 552(a) and 1 CFR part 51. To get copies of the service information, contact Boeing Commercial Airplanes, Long Beach Division, 3855 Lakewood Boulevard, Long Beach, California 90846, Attention: Data and Service Management, Dept. C1-L5A (D800-0024). To view the AD docket, go to the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal_register/code_of_federal_regulations/ibr_locations.html.

Issued in Renton, Washington, on June 13, 2005.
Ali Bahrami,
Manager, Transport Airplane Directorate, Aircraft Certification Service.

[FR Doc. 05-12313 Filed 6-23-05; 8:45 am]

BILLING CODE 4910-13-P